DEPARTMENT OF ENERGY

Microgrid Program Strategy

AGENCY: Office of Electricity, Department of Energy.

ACTION: Notice; request for public comment.

SUMMARY: The Office of Electricity (OE) of the U.S. Department of Energy (DOE) requests comment from the public on its Microgrid Program Strategy located at https://www.energy.gov/oe/microgrid-strategy-call-public-comment. Response to this notice is voluntary. Responses to this notice may be used by the government for program planning on a non-attribution basis. OE therefore requests that no business proprietary information or copyrighted information be submitted in response to this notice. Please note that the U.S. Government will not pay for response preparation, or for the use of information contained in the response.

DATES: Written comments and information are requested on or before November 25, 2022.

ADDRESSES: Submit comments electronically to MGRD@hq.doe.gov by the deadline. Mailed paper submissions will not be accepted.

FOR FURTHER INFORMATION CONTACT: Questions should be directed to Dan Ton at MGRD@hq.doe.gov, (202) 586-4618.

SUPPLEMENTARY INFORMATION: The development of the DOE Microgrid Program Strategy (Strategy) started in December 2020. The purpose was to define strategic research and development (R&D) areas for the DOE Office of Electricity (OE) Microgrids R&D (MGRD) Program to support its vision and accomplish its goals. The overarching vision for the Strategy and MGRD is:

By 2035, microgrids are envisioned to be essential building blocks of the future electricity delivery system to support resilience, decarbonization, and affordability.

The Strategy development process began with microgrid experts deliberating on areas the Strategy should focus on for impactful results in key metrics, such as reliability, resilience, decarbonization, and affordability, in the next five to ten years. These deliberations led to the development of seven strategic white papers, one for each of the six strategic R&D areas identified and one additional white paper on the overarching program vision, objectives, and targets. Each white paper was developed by a team of national laboratory and university members, and then reviewed by an industry advisory panel. These seven white papers constitute the DOE Microgrid Program Strategy.

OE sponsored the DOE MGRD Strategy Symposium on July 27-28, 2022, to seek input and feedback on the seven white papers from broader microgrid stakeholders. The symposium featured presentations, panel discussions, and group discussions on each white paper. Discussions focused on key R&D recommendations and their priority, aspirational R&D targets in five to ten years, and actionable steps recommended for enabling regulatory and business models.

The final draft of the seven white papers, which include feedback from the symposium, are being posted at https://www.energy.gov/oe/microgrid-strategy-call-public-comment for 30 days of public comment before finalization.

Signing Authority

This document of the Department of Energy was signed on October 19, 2022, by Gilbert C. Bindewald, III, Acting Principal Deputy Assistant Secretary of the Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on October 20, 2022.
Treena V. Garrett,
Federal Register Liaison Officer, U.S. Department of Energy.

[FR Doc. 2022-23183 Filed 10-24-22; 8:45 am]

BILLING CODE 6450-01-P